NATIONAL FOUNDATION ON THE ARTS AND THE HUMANITIES

National Endowment for the Arts; Arts Advisory Panel

Pursuant to section 10(a)(2) of the Federal Advisory Committee Act (Public Law 92-463), as amended, notice is hereby given that six meetings of the Arts Advisory Panel to the National Council on the Arts will be held at the Nancy Hanks Center, 1100 Pennsylvania Avenue, NW., Washington, DC 20506 as follows:

Visual Arts (Access to Artistic Excellence): November 3-5, 2004, Room 716. This meeting, from 9 a.m. to 5:30 p.m. on November 3rd and 4th, and from 9 a.m. to 2:30 p.m. on November 5th, will be closed.

Local Arts Agencies (Access to Artistic Excellence): November 4-5, 2004, Room 730. A portion of this meeting, from 12:30 p.m. to 1:30 p.m. on November 5th, will be for policy discussion and will be open to the public. The remainder of the meeting, from 9 a.m. to 5 p.m. on November 4th, and from 9 a.m. to 12:30 p.m. on November 5th, will be closed.

Music (Access to Artistic Excellence, Panel A): November 15-17, 2004, Room 714. A portion of this meeting, from 4:30 p.m. to 5:30 p.m. on November 17th, will be for policy discussion and will be open to the public. The remainder of the meeting, from 9 a.m. to 6 p.m. on November 15th, from 9 a.m. to 6:30 p.m. on November 16th, and from 9 a.m. to 4:30 p.m. and 5:30 p.m. to 6 p.m. on November 17th, will be closed.

Music (Access to Artistic Excellence, Panel B): November 18-19, 2004, Room 714. A portion of this meeting, from 4:45 p.m. to 5:30 p.m. on November 19th, will be for policy discussion and will be open to the public. The remainder of the meeting, from 9 a.m. to 6 p.m. on November 18th, and from 9 a.m. to 4:45 p.m. and 5:30 p.m. to 6 p.m. on November 19th, will be closed.

Folk and Traditional Arts (Access to Artistic Excellence): November 8-10, 2004, Room 716. This meeting, from 9 a.m. to 6:30 p.m. each day, will be closed.

Dance (Access to Artistic Excellence): December 7-9, 2004, Room 730. This meeting, from 9 a.m. to 5:30 p.m. on December 7th, from 9 a.m. to 6 p.m. on December 8th, and from 9:30 a.m. to 3:30 p.m. on December 9th, will be closed.

The closed portions of meetings are for the purpose of Panel review, discussion, evaluation, and recommendation on applications for financial assistance under the National Foundation on the Arts and the Humanities Act of 1965, as amended, including information given in confidence to the agency by grant applicants. In accordance with the determination of the Chairman of April 14, 2004, these sessions will be closed to the public pursuant to subsection (c)\(6) of 5 U.S.C. 552b.

Any person may observe meetings, or portions thereof, of advisory panels that are open to the public, and if time allows, may be permitted to participate in the panel's discussions at the discretion of the panel chairman.

If you need special accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC 20506, or call 202/682-5691.

Dated: October 22, 2004.
Kathy Plowitz-Worden,
Panel Coordinator, Panel Operations, National Endowment for the Arts.

[FR Doc. 04-24020 Filed 10-26-04; 8:45 am]

BILLING CODE 7537-01-P